DEPARTMENT OF THE INTERIOR

National Park Service

[NPS-NER-GETT-20484; PPMPSPD1Z.YM0000, PPNEGETTS1]

Notice of 2016 Meeting Schedule for Gettysburg National Military Park Advisory Commission

AGENCY: National Park Service, Interior.

ACTION: Notice of meetings.

SUMMARY: This notice announces a schedule of upcoming meetings for the Gettysburg National Military Park Advisory Commission.

DATES: The Gettysburg National Military Park Advisory Commission will host two meetings on Thursday, April 28, 2016, and Thursday, September 15, 2016. Both scheduled meetings will begin at 7:00 p.m. and end at 9:00 p.m. (EASTERN). Efforts have been made locally to ensure that the interested public is aware of the meeting dates.

Locations: Both meetings will be held at the Gettysburg National Military Park Museum and Visitor Center in the Ford Education Center, 1195 Baltimore Pike, Suite 100, Gettysburg, Pennsylvania 17325.

FOR FURTHER INFORMATION CONTACT: Ed Clark, Superintendent and Designated Federal Official, Gettysburg National Military Park, 1195 Baltimore Pike, Suite 100, Gettysburg, Pennsylvania 17325, or telephone (717) 334-1124 or email ed_w_clark@nps.gov.

SUPPLEMENTARY INFORMATION: The Gettysburg National Military Park Advisory Commission was established by Public Law 101-377. The scheduled meetings will be open to the public. Each scheduled meeting will include presentations on the Gettysburg National Military Park Operational Update, and subcommittee reports. The April 28, 2016, meeting will also have the nomination of new officers. Any member of the public may file with the committee a written statement with issues or concerns. The statement should be addressed to Gettysburg National Military Park Advisory Commission, 1195 Baltimore Pike, Gettysburg, PA 17325.

Before including your address, telephone number, email address, or other personal identifying information in your comments—you should be aware that your entire comment—including your personal identifying information may be made publicly available at any time. While you may ask us in your comment to withhold your personal identifying information from public view, we cannot guarantee that we will be able to do so.

Dated: March 21, 2016.
Alma Ripps,
Chief, Office of Policy.

[FR Doc. 2016-06844 Filed 3-24-16; 8:45 am]

BILLING CODE 4310-EE-P